DEPARTMENT OF ENERGY

Federal Energy Regulatory Commission

[Docket No. EG02-132-000]

PPL Edgewood Energy, LLC; Notice of Application for Commission Determination of Exempt Wholesale Generator Status

May 31, 2002.

Take notice that on May 6, 2002, PPL Edgewood Energy, LLC (Applicant) filed with the Federal Energy Regulatory Commission (Commission) an application for determination of exempt wholesale generator status pursuant to Part 365 of the Commission's regulations.

The Applicant is a Delaware limited liability company formed for the purpose of owning and operating the Edgewood generating plant, located in Brentwood, New York, which will generate up to 79.9 MW. The Applicant is an indirect subsidiary of PPL Corporation, a public utility holding company exempt from registration under section 3(a)(1) of the Public Utility Holding Company Act of 1935.

Any person desiring to intervene or to protest this filing should file with the Federal Energy Regulatory Commission, 888 First Street, NE., Washington, DC 20426, in accordance with Rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Comment Date: June 7, 2002.

Linwood A. Watson, Jr.,
Deputy Secretary.

[FR Doc. 02-14180 Filed 6-5-02; 8:45 am]

BILLING CODE 6717-01-P